DEPARTMENT OF AGRICULTURE

Submission for OMB Review; Comment Request

April 19, 2022.

The Department of Agriculture has submitted the following information collection requirement(s) to OMB for review and clearance under the Paperwork Reduction Act of 1995. Comments are requested regarding; whether the collection of information is necessary for the proper performance of the functions of the agency, including whether the information will have practical utility; the accuracy of the agency's estimate of burden including the validity of the methodology and assumptions used; ways to enhance the quality, utility and clarity of the information to be collected; and ways to minimize the burden of the collection of information on those who are to respond, including through the use of appropriate automated, electronic, mechanical, or other technological collection techniques or other forms of information technology.

Comments regarding this information collection received by May 23, 2022 will be considered. Written comments and recommendations for the proposed information collection should be submitted within 30 days of the publication of this notice on the following website www.reginfo.gov/public/do/PRAMain. Find this particular information collection by selecting “Currently under 30-day Review—Open for Public Comments” or by using the search function.

An agency may not conduct or sponsor a collection of information unless the collection of information displays a currently valid OMB control number and the agency informs potential persons who are to respond to the collection of information that such persons are not required to respond to the collection of information unless it displays a currently valid OMB control number.

Food and Nutrition Service

Title: Supplemental Nutrition Assistance Program (SNAP) Mobile Payment Pilots (MPPs).

OMB Control Number: 0584-NEW.

Summary of Collection: Title 7 Section 2016(h)(14) of the U.S. Code, as amended by Section 4006(e) of the Agricultural Act of 2018 (Pub. L. 115-334), requires the Food and Nutrition Service (FNS) to authorize the use of mobile payment technology for accessing Supplemental Nutrition Assistance Program (SNAP) benefits through smart phones, tablets, and other personal mobile devices in place of Electronic Benefit Transfer (EBT) cards.

Need and Use of the Information: FNS plans to issue a Request for Volunteers (RFV) soliciting MPPs proposals from up to 53 SNAP State agencies; and, approve up to five (5) of those State agencies that, in partnership with private, for-profit, EBT stakeholders and authorized SNAP retailers, will implement MPPs that test the use of mobile payment technology by SNAP households to access and redeem program benefits.

FNS must evaluate the data and observations collected and determine whether it is feasible to implement this technology nation-wide, whether further study is required before doing so, or if implementation is not in the best interest of the program, and submit report to report to Congress with the basis of its findings. This information collection is necessary because Congress has specifically mandated that approval and subsequent evaluation of MPPs by State agencies must occur before FNS can fulfill its broader statutory obligations to allow mobile payment technology in SNAP nation-wide.

Description of Respondents: (53) State, Local or Tribal Government (212) Business-for-profit; and (25,000) Individuals/Households.

Number of Respondents: 25,265.

Frequency of Responses: Reporting: Once, Annually, On occasion.

Total Burden Hours: 77,235.

Ruth Brown,
Departmental Information Collection Clearance Officer.

[FR Doc. 2022-08644 Filed 4-21-22; 8:45 am]

BILLING CODE 3410-30-P